DEPARTMENT OF COMMERCE

Foreign-Trade Zones Board

[S-326-2025]

Foreign-Trade Zone 38; Application for Subzone; Coroplast Tape Corporation; Rock Hill, South Carolina

An application has been submitted to the Foreign-Trade Zones (FTZ) Board by the South Carolina State Ports Authority, grantee of FTZ 38, requesting subzone status for the facility of Coroplast Tape Corporation, located in Rock Hill, South Carolina. The application was submitted pursuant to the provisions of the Foreign-Trade Zones Act, as amended (19 U.S.C. 81a-81u), and the regulations of the FTZ Board (15 CFR part 400). It was formally docketed on September 17, 2025.

The proposed subzone (4.17 acres) is located at 1230 Galleria Boulevard, Rock Hill, South Carolina. A notification of proposed production activity has been submitted and will be published separately for public comment. The proposed subzone would be subject to the existing activation limit of FTZ 38.

In accordance with the FTZ Board's regulations, Juanita Chen of the FTZ Staff is designated examiner to review the application and make recommendations to the Executive Secretary.

Public comment is invited from interested parties. Submissions shall be addressed to the FTZ Board's Executive Secretary and sent to: ftz@trade.gov. The closing period for their receipt is October 29, 2025. Rebuttal comments in response to material submitted during the foregoing period may be submitted through November 13, 2025.

A copy of the application will be available for public inspection in the “Online FTZ Information Section” section of the FTZ Board's website, which is accessible via www.trade.gov/ftz.

For further information, contact Juanita Chen at juanita.chen@trade.gov.

Dated: September 17, 2025.
Elizabeth Whiteman,
Executive Secretary.

[FR Doc. 2025-18209 Filed 9-18-25; 8:45 am]

BILLING CODE 3510-DS-P